DEPARTMENT OF TRANSPORTATION

Federal Transit Administration

[FTA Docket No. 2009-0042]

Agency Information Collection Activity Under OMB Review

AGENCY: Federal Transit Administration, DOT.

ACTION: Notice of request for comments.

SUMMARY: The Federal Transit Administration invites public comment about our intention to request the Office of Management and Budget's (OMB) approval to reinstate the following information collections:

(1) Bus Testing Program.

(2) Transit Research, Development, Demonstration and Deployment Projects.

The information collections involve our Bus Testing and Transit Research Programs. The information to be collected for the Bus Testing Program is necessary to ensure that buses have been tested at the Bus Testing Center for maintainability, reliability, safety, performance, structural integrity, fuel economy, emissions and noise. The information to be collected for Transit Research, Development, Demonstration and Deployment Projects is necessary to determine eligibility of applicants and ensure mass transportation service at a minimum cost. We are required to publish this notice in the Federal Register by the Paperwork Reduction Act of 1995. The Federal Register with a 60-day comment period soliciting comments was published on June 1, 2009.

DATES: Comments must be submitted before September 30, 2009. A comment to OMB is most effective if OMB receives it within 30 days of publication.

FOR FURTHER INFORMATION CONTACT: Sylvia L. Marion, Office of Administration, Office of Management Planning, (202) 366-6680.

SUPPLEMENTARY INFORMATION: Title: Bus Testing Program.

Abstract: 49 U.S.C. 5323(c) provides that no federal funds that are appropriated or made available after September 30, 1989, may be obligated or expended for the acquisition of a new bus model (including any model using alternative fuels) unless the bus has been tested at the Bus Testing Center (Center) in Altoona, Pennsylvania. 49 U.S.C. 5318(a) further specifies that each new bus model is to be tested for maintainability, reliability, safety, performance (including braking performance), structural integrity, fuel economy, emissions, and noise.

The operator of the Bus Testing Center, the Thomas D. Larson Pennsylvania Transportation Institute (LTI), has entered into a cooperative agreement with FTA. LTI operates and maintains the Center, and establishes and collects fees for the testing of the vehicles at the facility. A test report is given to the manufacturer of the new bus model after the vehicle has been tested at the Center. The bus manufacturer certifies to an FTA grantee that the bus the grantee is purchasing has been tested at the Center. Also, grantees who are considering the purchase of a bus use this report to assist them in making their purchasing decisions. LTI maintains a reference file for all the test reports which are made available to the public.

Estimated Total Annual Burden: 404 hours.

Title: 49 U.S.C. 5312(a) Transit Research, Development, Demonstration and Deployment Projects.

Abstract: 49 U.S.C. 5312(a) authorizes the Secretary of Transportation to make grants or contracts for research, development, demonstration and deployment projects, and evaluation of technology of national significance to public transportation, that the Secretary determines will improve mass transportation service or help transportation service meet the total urban transportation needs at a minimum cost. In carrying out the provisions of this section, the Secretary is also authorized to request and receive appropriate information from any source. As an example, FTA's United We Ride Program is funded under the Transit Research Program. Research for the United We Ride Program is being conducted to gather information on how the objectives of Executive Order 13330 on Human Services Transportation Coordination are being achieved.

The information collected is submitted as part of the application for grants and cooperative agreements and is used to determine eligibility of applicants. Collection of this information also provides documentation that the applicants and recipients are meeting program objectives and are complying with FTA Circular 6100.1B and other Federal requirements.

Estimated Total Annual Burden: 11,240 hours.

ADDRESSES: All written comments must refer to the docket number that appears at the top of this document and be submitted to the Office of Information and Regulatory Affairs, Office of Management and Budget, 725 17th Street, NW., Washington, DC 20503, Attention: FTA Desk Officer.

Comments Are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued on: August 26, 2009.
Ann M. Linnertz,
Associate Administrator for Administration.

[FR Doc. E9-20982 Filed 8-28-09; 8:45 am]

BILLING CODE 4910-57-P